DEPARTMENT OF HEALTH AND HUMAN SERVICES

Office of the National Coordinator for Health Information Technology; American Health Information Community Consumer Empowerment Workgroup Meeting

ACTION: Announcement of meeting.

SUMMARY: This notice announces the 13th meeting of the American Health Information Community Consumer Empowerment Workgroup in accordance with the Federal Advisory Committee Act (Pub. L. No. 92-463, 5 U.S.C., App.).

DATES: January 10, 2007, from 1 p.m. to 4 p.m. EST.

ADDRESSES: Marcy C. Switzer Building (330 C Street, SW., Washington, DC 20201), Conference Room 4090 (please bring photo ID for entry to a Federal building).

FOR FURTHER INFORMATION CONTACT: http://www.hhs.gov/healthit/ahic/ce_main.html.

SUPPLEMENTARY INFORMATION: The Workgroup members will continue its discussion about potential recommendations to the AHIC addressing the broad charge to the Workgroup, and hear about recent research on interoperability issues.

The meeting will be available via internet access. For additional information, go to http://www.hhs.gov/healthit/ahic/ce_instruct.html.

Dated: December 14, 2006.
Judith Sparrow,
Director, American Health Information Community, Office of Programs and Coordination, Office of the National Coordinator for Health Information Technology.

[FR Doc. 06-9808 Filed 12-20-06; 8:45 am]

BILLING CODE 4150-24-M